DEPARTMENT OF COMMERCE

International Trade Administration

[A-533-906, A-821-836]

Sodium Nitrite From India and the Russian Federation: Initiation of Less-Than-Fair-Value Investigations

AGENCY: Enforcement and Compliance, International Trade Administration, Department of Commerce.

DATES: Applicable February 2, 2022.

FOR FURTHER INFORMATION CONTACT: Joy Zhang (India) or Paola Aleman Ordaz (the Russian Federation (Russia)); AD/CVD Operations, Offices III and IV, respectively, Enforcement and Compliance, International Trade Administration, U.S. Department of Commerce, 1401 Constitution Avenue NW, Washington, DC 20230; telephone: (202) 482-1168 and (202) 482-4031, respectively.

SUPPLEMENTARY INFORMATION:

The Petitions

On January 13, 2022, the Department of Commerce (Commerce) received antidumping duty (AD) petitions concerning imports of sodium nitrite from India and Russia filed in proper form on behalf of Chemtrade Chemicals US, LLC (the petitioner), a domestic producer of sodium nitrite.¹ The Petitions were accompanied by countervailing duty (CVD) petitions concerning imports of sodium nitrite from India and Russia.²

¹ See Petitioner's Letter, “Sodium Nitrite from India and Russia: Antidumping and Countervailing Duty Petitions,” dated January 13, 2022 (the Petitions).

² Id.

Between January 19 and 27, 2022, Commerce requested supplemental information pertaining to certain aspects of the Petitions in separate supplemental questionnaires and telephone calls.³ The petitioner filed responses to the supplemental questionnaires on January 21, 24, and 27, 2022.⁴

³ See Commerce's Letters, “Petitions for the Imposition of Antidumping and Countervailing Duties on Imports of Sodium Nitrite from India and the Russian Federation: Supplemental Questions,” dated January 19, 2022; “Petition for the Imposition of Antidumping Duties on Imports of Sodium Nitrite from India: Supplemental Questions,” dated January 19, 2022; and “Petition for the Imposition of Antidumping Duties on Imports of Sodium Nitrite from the Russian Federation: AD Questions,” dated January 20, 2022; see also Memoranda, “Phone Call with Counsel to the Petitioner,” dated January 27, 2022.

⁴ See Petitioner's Letters, “Petition for the Imposition of Antidumping and Countervailing Duties on Imports of Sodium Nitrite from India and Russia: Supplemental Questionnaire Responses to Petition General Issues,” dated January 21, 2022 (General Issues Supplement); “Sodium Nitrite from India and Russia: Errata to Supplemental Questionnaire Responses to Petition General Issues,” dated January 24, 2022 (General Issues Errata); “Sodium Nitrite from India: Responses to Supplemental Questions Regarding the Antidumping Duty Petition,” dated January 24, 2022; “Petition for the Imposition of Antidumping Duties on Imports of Sodium Nitrite from Russia: Responses to Supplemental Questions Regarding the Antidumping Duty Petition,” dated January 24, 2022; “Sodium Nitrite from India and Russia: Second Supplemental Questionnaire Response to Petition General Issues,” dated January 27, 2022 (Second General Issues Supplement); “Sodium Nitrite from India: Responses to Second Supplemental Questions Regarding the Antidumping Duty Petition,” dated January 27, 2022; and “Petition for the Imposition of Antidumping Duties on Imports of Sodium Nitrite from Russia: Responses to Second Supplemental Questions Regarding the Antidumping Duty Petition,” dated January 27, 2022.

In accordance with section 732(b) of the Tariff Act of 1930, as amended (the Act), the petitioner alleges that imports of sodium nitrite from India and Russia are being, or are likely to be, sold in the United States at less than fair value (LTFV) within the meaning of section 731 of the Act, and that imports of such products are materially injuring, or threatening material injury to, the sodium nitrite industry in the United States. Consistent with section 732(b)(1) of the Act, the Petitions were accompanied by information reasonably available to the petitioner supporting its allegations.

Commerce finds that the petitioner filed the Petitions on behalf of the domestic industry, because the petitioner is an interested party, as defined in section 771(9)(C) of the Act. Commerce also finds that the petitioner demonstrated sufficient industry support for the initiation of the requested LTFV investigations.⁵

⁵ See infra, section titled “Determination of Industry Support for the Petitions.”

Periods of Investigation

Because the Petitions were filed on January 13, 2022, the period of investigation (POI) for these LTFV investigations is January 1, 2021, through December 31, 2021, pursuant to 19 CFR 351.204(b)(1).⁶

⁶ See 19 CFR 351.204(b)(1).

Scope of the Investigations

The product covered by these investigations is sodium nitrite from India and Russia. For a full description of the scope of these investigations, see the appendix to this notice.

Comments on the Scope of the Investigations

As discussed in the Preamble to Commerce's regulations, we are setting aside a period for interested parties to raise issues regarding product coverage (i.e., scope).⁷ Commerce will consider all comments received from interested parties and, if necessary, will consult with interested parties prior to the issuance of the preliminary determinations. If scope comments include factual information,⁸ all such factual information should be limited to public information. To facilitate preparation of its questionnaires, Commerce requests that all interested parties submit such comments by 5:00 p.m. Eastern Time (ET) on February 22, 2022, which is 20 calendar days from the signature date of this notice. Any rebuttal comments, which may include factual information, must be filed by 5:00 p.m. ET on March 4, 2022, which is ten calendar days from the initial comment deadline.

⁷ See Antidumping Duties; Countervailing Duties, Final Rule, 62 FR 27296, 27323 (May 19, 1997) (Preamble).

⁸ See 19 CFR 351.102(b)(21) (defining “factual information”).

Commerce requests that any factual information that parties consider relevant to the scope of these investigations be submitted during this period. However, if a party subsequently finds that additional factual information pertaining to the scope of these investigations may be relevant, the party must contact Commerce and request permission to submit the additional information. All such submissions must be filed on the records of each of the concurrent AD and CVD investigations.

Filing Requirements

All submissions to Commerce must be filed electronically via Enforcement and Compliance's Antidumping Duty and Countervailing Duty Centralized Electronic Service System (ACCESS), unless an exception applies.⁹ An electronically-filed document must be received successfully in its entirety by the time and date on which it is due. Note that Commerce has temporarily modified certain of its requirements for serving documents containing business proprietary information until further notice.¹⁰

⁹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

¹⁰ See Temporary Rule Modifying AD/CVD Service Requirements Due to COVID-19; Extension of Effective Period, 85 FR 41363 (July 10, 2020).

Comments on Product Characteristics

Commerce is providing interested parties an opportunity to comment on the appropriate physical characteristics of sodium nitrite to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe sodium nitrite, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on February 22, 2022, which is 20 calendar days from the signature date of this notice. Any rebuttal comments must be filed by 5:00 p.m. ET on March 4, 2022, which is ten calendar days from the initial comment deadline. All comments and submissions to Commerce must be filed electronically using ACCESS, as explained above, on the record of each of the LTFV investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F. 2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹³ Based on our analysis of the information submitted on the record, we have determined that sodium nitrite, as defined in the scope, constitutes a single domestic like product, and we have analyzed industry support in terms of that domestic like product.¹⁴

¹³ See Petitions at Volume I at 10-15.

¹⁴ For a discussion of the domestic like product analysis as applied to these cases and information regarding industry support, see Country-Specific AD Initiation Checklists, “Antidumping Duty Investigation Initiation Checklists: Sodium Nitrite from India and the Russian Federation,” dated concurrently with this Federal Register notice and on file electronically via ACCESS (Country-Specific AD Initiation Checklists) at Attachment II, Analysis of Industry Support for the Antidumping and Countervailing Duty Petitions Covering Sodium Nitrite from India and the Russian Federation (Attachment II).

In determining whether the petitioner has standing under section 732(c)(4)(A) of the Act, we considered the industry support data contained in the Petitions with reference to the domestic like product as defined in the “Scope of the Investigations,” in the appendix to this notice. To establish industry support, the petitioner provided its own total production volume of sodium nitrite during the calendar year 2021.¹⁵ The petitioner also provided an estimate of the 2021 production volume for the only other known U.S. producer of sodium nitrite, SABIC Innovative Chemicals US, LLC.¹⁶ The petitioner then compared its own production volume of sodium nitrite to the total volume of sodium nitrite produced by the U.S. industry.¹⁷ We relied on data provided by the petitioner for purposes of measuring industry support.¹⁸

¹⁵ See Petitions at Volume I at 3; see also General Issues Supplement at 3-4; and General Issues Errata at 1.

¹⁶ See Petitions at Volume I at Exhibit I-1; see also General Issues Supplement at 3-4 and Exhibit I-25; General Issues Errata at 1; and Second General Issues Supplement at 1 and Exhibit I-28.

¹⁷ See General Issues Supplement at 4; see also General Issues Errata at 1.

¹⁸ See Petitions at Volume I at 3 and Exhibit I-1; see also General Issues Supplement at 3-4 and Exhibit I-25; General Issues Errata at 1; and Second General Issues Supplement at 1 and Exhibit I-28. For further discussion, see Attachment II of the Country-Specific AD Initiation Checklists.

Our review of the data provided in the Petitions, the General Issues Supplement, General Issues Errata, Second General Issues Supplement, and other information readily available to Commerce indicates that the petitioner has established industry support for the Petitions. First, the Petitions established support from domestic producers (or workers) accounting for more than 50 percent of the total production of the domestic like product and, as such, Commerce is not required to take further action in order to evaluate industry support (e.g., polling).¹⁹ Second, the domestic producers (or workers) have met the statutory criteria for industry support under section 732(c)(4)(A)(i) of the Act because the domestic producers (or workers) who support the Petitions account for at least 25 percent of the total production of the domestic like product.²⁰ Finally, the domestic producers (or workers) have met the statutory criteria for industry support under section 732(c)(4)(A)(ii) of the Act because the domestic producers (or workers) who support the Petitions account for more than 50 percent of the production of the domestic like product produced by that portion of the industry expressing support for, or opposition to, the Petitions.²¹ Accordingly, Commerce determines that the Petitions were filed on behalf of the domestic industry within the meaning of section 732(b)(1) of the Act.²²

¹⁹ See Country-Specific AD Initiation Checklists at Attachment II; see also section 732(c)(4)(D) of the Act.

²⁰ See Country-Specific AD Initiation Checklists at Attachment II.

²¹ Id.

²² Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²³

²³ See Petitions at Volume I at 15 and Exhibit I-7; see also General Issues Supplement at 4 and Exhibit I-26; and General Issues Errata at 1-2 and Exhibit I-26.

The petitioner contends that the industry's injured condition is illustrated by a significant and increasing volume of subject imports; declining market share; underselling and price depression and suppression; lost sales and revenues; declines in production, shipments, capacity utilization, and employment; and a decline in sales revenues and a negative impact on operating profits.²⁴ We assessed the allegations and supporting evidence regarding material injury, threat of material injury, causation, as well as negligibility, and we have determined that these allegations are properly supported by adequate evidence, and meet the statutory requirements for initiation.²⁵

²⁴ See Petitions at Volume I at 15-34 and Exhibits I-5, I-7, I-9 through I-15, and I-18; see also General Issues Supplement at 4-7 and Exhibits I-22 through I-24 and I-27.

²⁵ See Country-Specific AD Initiation Checklists at Attachment III, Analysis of Allegations and Evidence of Material Injury and Causation for the Antidumping and Countervailing Duty Petitions Covering Sodium Nitrite from India and the Russian Federation (Attachment III).

Allegations of Sales at LTFV

The following is a description of the allegations of sales at LTFV upon which Commerce based its decision to initiate these LTFV investigations on imports of sodium nitrite from India and Russia. The sources of data for the deductions and adjustments relating to U.S. price and normal value (NV) are discussed in greater detail in the country-specific AD initiation checklists.

U.S. Price

For India and Russia, the petitioner based export price (EP) on the average unit values (AUVs) of publicly available import data.²⁶ For India, the petitioner also based EP on price quotes for the sale of sodium nitrite produced in, and exported from, India and offered for sale in the United States.²⁷ The petitioner conservatively did not adjust the U.S. prices based on AUVs for movement or other expenses incurred in India and Russia for purposes of calculating net U.S. prices.²⁸ For India, the petitioner made certain adjustments for movement and other expenses for the U.S. price based on price quotes to calculate a net U.S. price.²⁹

²⁶ See Country-Specific AD Initiation Checklists.

²⁷ See India AD Initiation Checklist.

²⁸ See Country-Specific AD Initiation Checklists.

²⁹ See India AD Initiation Checklist.

Normal Value ³⁰

³⁰ In accordance with section 773(b)(2) of the Act, for these investigations, Commerce will request information necessary to calculate the constructed value (CV) and cost of production (COP) to determine whether there are reasonable grounds to believe or suspect that sales of the foreign like product have been made at prices that represent less than the COP of the product.

For India, the petitioner based NV on home market pricing information obtained through market research for sodium nitrite produced in and sold, or offered for sale, in India.³¹ For Russia, the petitioner provided information indicating that the home market price it obtained through market research was below the cost of production (COP) and, therefore, the petitioner calculated NV based on constructed value (CV).³² For further discussion of CV, see the section “Normal Value Based on Constructed Value.”

³¹ See India AD Initiation Checklist.

³² See Russia AD Initiation Checklist.

Normal Value Based on Constructed Value

As noted above, the petitioner provided information indicating that the price charged for sodium nitrite produced in and sold, or offered for sale, in Russia was below the COP; therefore, for Russia, the petitioner calculated NV based on CV.³³ Pursuant to section 773(e) of the Act, the petitioner calculated CV as the sum of the cost of manufacturing; selling, general, and administrative expenses; financial expenses; and profit.³⁴ In calculating the cost of manufacturing, the petitioner relied on its own production experience and input consumption rates, adjusted for known differences, and valued inputs using publicly available information on costs specific to Russia during the proposed POI.³⁵ In calculating selling, general, and administrative expenses; financial expenses; and profit ratios, the petitioner relied on the 2020 financial statements of a producer of chemical fertilizers and related mineral products and by-products in Russia.³⁶

³³ See Russia AD Initiation Checklist.

³⁴ Id.

³⁵ Id.

³⁶ Id.

Fair Value Comparisons

Based on the data provided by the petitioner, there is reason to believe that imports of sodium nitrite from India and Russia are being, or are likely to be, sold in the United States at LTFV. Based on comparisons of EP to NV or CV in accordance with sections 772 and 773 of the Act, the estimated dumping margins for sodium nitrite from each of the countries covered by this initiation are as follows: (1) India—53.43 to 153.30 percent; and (2) Russia—207.17 percent.³⁷

³⁷ See Country-Specific AD Initiation Checklists.

Initiation of LTFV Investigations

Based upon our examination of the Petitions and supplemental responses, we find that they meet the requirements of section 732 of the Act. Therefore, we are initiating these LTFV investigations to determine whether imports of sodium nitrite from India and Russia are being, or are likely to be, sold in the United States at LTFV. In accordance with section 733(b)(1)(A) of the Act and 19 CFR 351.205(b)(1), unless postponed, we will make our preliminary determinations no later than 140 days after the date of this initiation.

Respondent Selection

In the Petitions, the petitioner identified four companies in India and one company in Russia as producers and/or exporters of sodium nitrite.³⁸ With respect to India, following standard practice in LTFV investigations involving market economy countries, in the event that Commerce determines that the number of exporters or producers in any individual case is large such that it cannot individually examine each company based upon its resources, where appropriate, Commerce intends to select mandatory respondents in that case based on U.S. Customs and Border Protection (CBP) data for U.S. imports under the appropriate Harmonized Tariff Schedule of the United States subheadings listed in the “Scope of the Investigations,” in the appendix.

³⁸ See Petitions at Volume I at 9-10 and Exhibit I-6; see also General Issues Supplement at 1-3.

On January 25 and 28, 2022, Commerce released CBP data on U.S. imports of sodium nitrite from India and Russia, respectively, under administrative protective order (APO) to all parties with access to information protected by APO and indicated that interested parties wishing to comment on the CBP data and/or respondent selection must do so within three business days after the publication date of the notice of initiation of these investigations.³⁹ Commerce will not accept rebuttal comments regarding the CBP data or respondent selection.

³⁹ See Memoranda, “Antidumping Duty Investigation of Sodium Nitrite from India: Release of Customs Data from U.S. Customs and Border Protection,” dated January 25, 2022, and “Antidumping Duty Petition on Imports of Sodium Nitrite from the Russian Federation: Release of U.S. Customs and Border Protection Data,” dated January 28, 2022 (Russia CBP Import Data Release Memorandum).

The petitioner named only one company as a producer/exporter of sodium nitrite in Russia, Uralchem, JSC (Uralchem).⁴⁰ We placed CBP import data on the record of this proceeding, which supports the petitioner's identification of Uralchem as the sole producer/exporter of sodium nitrite in Russia.⁴¹ We currently know of no other producers/exporters of subject merchandise in Russia. Accordingly, Commerce intends to examine all known producers/exporters in this investigation (i.e., Uralchem). We are providing interested parties with an opportunity to comment on the CBP data and respondent selection within three business days of publication of this notice in the Federal Register.⁴² As noted above, Commerce will not accept rebuttal comments regarding the CBP data or respondent selection. If no comments are received, or if the comments that Commerce receives further support the existence of Uralchem as the sole producer/exporter of sodium nitrite in Russia, we do not intend to conduct respondent selection and will issue the AD questionnaire to Uralchem. However, if Commerce receives comments that require it to select a respondent, we intend to finalize our decisions regarding respondent selection within 20 days of publication of this notice.

⁴⁰ See Petitions at Volume IV at 10 and Exhibit IV-1.

⁴¹ See Russia CBP Import Data Release Memorandum.

⁴² Id.

Comments on CBP data and respondent selection must be filed electronically using ACCESS. An electronically filed document must be received successfully in its entirety via ACCESS by 5:00 p.m. ET on the specified deadline. Interested parties must submit applications for disclosure under APO in accordance with 19 CFR 351.305(b). Instructions for filing such applications may be found on Commerce's website at https://enforcement.trade.gov/apo.

Distribution of Copies of the Petitions

In accordance with section 732(b)(3)(A) of the Act and 19 CFR 351.202(f), copies of the public version of the Petitions have been provided to the governments of India and Russia via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of sodium nitrite from India and/or Russia are materially injuring, or threatening material injury to, a U.S. industry.⁴³ A negative ITC determination for any country will result in the investigation being terminated with respect to that country.⁴⁴ Otherwise, these LTFV investigations will proceed according to statutory and regulatory time limits.

⁴³ See section 733(a) of the Act.

⁴⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁵ and, if the information is submitted to rebut, clarify, or correct factual information already on the record, to provide an explanation identifying the information already on the record that the factual information seeks to rebut, clarify, or correct.⁴⁶ Time limits for the submission of factual information are addressed in 19 CFR 351.301, which provides specific time limits based on the type of factual information being submitted. Interested parties should review the regulations prior to submitting factual information in these investigations.

⁴⁵ See 19 CFR 351.301(b).

⁴⁶ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; Commerce will grant untimely filed requests for the extension of time limits only in limited cases where we determine, based on 19 CFR 351.302, that extraordinary circumstances exist. Parties should review Commerce's regulations concerning factual information prior to submitting factual information in these investigations.⁴⁷

⁴⁷ See 19 CFR 351.301; see also Extension of Time Limits; Final Rule, 78 FR 57790 (September 20, 2013), available at https://www.gpo.gov/fdsys/pkg/FR-2013-09-20/html/2013-22853.htm.

Certification Requirements

Any party submitting factual information in an AD or CVD proceeding must certify to the accuracy and completeness of that information.⁴⁸ Parties must use the certification formats provided in 19 CFR 351.303(g).⁴⁹ Commerce intends to reject factual submissions if the submitting party does not comply with the applicable certification requirements.

⁴⁸ See section 782(b) of the Act.

⁴⁹ See Certification of Factual Information to Import Administration During Antidumping and Countervailing Duty Proceedings, 78 FR 42678 (July 17, 2013) (Final Rule). Answers to frequently asked questions regarding the Final Rule are available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing a letter of appearance as discussed). Note that Commerce has temporarily modified certain of its requirements for serving documents containing business proprietary information, until further notice.⁵⁰

⁵⁰ See Temporary Rule Modifying AD/CVD Service Requirements Due to COVID-19; Extension of Effective Period, 85 FR 41363 (July 10, 2020).

This notice is issued and published pursuant to sections 732(c)(2) and 777(i) of the Act, and 19 CFR 351.203(c).

Dated: February 2, 2022.
Lisa W. Wang,
Assistant Secretary for Enforcement and Compliance.

Appendix

Scope of the Investigations

The product covered by these investigations is sodium nitrite in any form, at any purity level. In addition, the sodium nitrite covered by these investigations may or may not contain an anti-caking agent. Examples of names commonly used to reference sodium nitrite are nitrous acid, sodium salt, anti-rust, diazotizing salts, erinitrit, and filmerine. Sodium nitrite's chemical composition is NaNO2, and it is generally classified under subheading 2834.10.1000 of the Harmonized Tariff Schedule of the United States (HTSUS). The American Chemical Society Chemical Abstract Service (CAS) has assigned the name “sodium nitrite” to sodium nitrite. The CAS registry number is 7632-00-0. For purposes of the scope of these investigations, the narrative description is dispositive, not the tariff heading, CAS registry number or CAS name, which are provided for convenience and customs purposes.

[FR Doc. 2022-02635 Filed 2-4-22; 8:45 am]

BILLING CODE 3510-DS-P